DEPARTMENT OF HEALTH AND HUMAN SERVICES

Indian Health Service

Tribal Management Grant Program; Extension of Due Dates

AGENCY: Indian Health Service, HHS.

ACTION: Notice; extension of due dates.

SUMMARY: This document extends due dates in the Fiscal Year 2016 Tribal Management Grant Program funding announcement that was published in the Federal Register (81 FR 20396) on April 7, 2016. Several key dates have been extended.

DATES: The Application Deadline Date, Signed Tribal Resolutions Due Date, and Proof of Non-Profit Status Due Date are all extended to June 17, 2016.

FOR FURTHER INFORMATION CONTACT: Michelle Eagle Hawk, Deputy Director, Office of Direct Service and Contracting Tribes, Indian Health Service, 5600 Fishers Lane, Mail Stop 08E17, Rockville, MD 20857, telephone (301) 443-1104. (This is not a toll-free number.)

Dated: June 9, 2016.
Elizabeth A. Fowler,
Deputy Director for Management Operations, Indian Health Service.

[FR Doc. 2016-14235 Filed 6-15-16; 8:45 am]

BILLING CODE 4165-16-P